ENVIRONMENTAL PROTECTION AGENCY

[FRL-9951-65-OA]

Request for Nominations of Experts To Augment the Science Advisory Board Ecological Processes and Effects Committee To Provide Advice on Methods for Deriving Water Quality Criteria for the Protection of Aquatic Life

AGENCY: Environmental Protection Agency (EPA).

ACTION: Notice.

SUMMARY: The Environmental Protection Agency (EPA), SAB Staff Office is requesting public nominations of scientific experts to augment the SAB Ecological Processes and Effects Committee (EPEC) for review of a draft EPA document entitled “Scope and Approach for Revising USEPA's Guidelines for Deriving National Water Quality Criteria to Protect Aquatic Life.”

DATES: Nominations should be submitted by September 20, 2016 per the instructions below.

FOR FURTHER INFORMATION CONTACT: Any member of the public wishing further information regarding this Notice and Request for Nominations may contact the Designated Federal Officer, as identified below. Nominators unable to submit nominations electronically as described below may contact the Designated Federal Officer for assistance. General information concerning the EPA SAB can be found at the EPA SAB Web site at http://www.epa.gov/sab.

SUPPLEMENTARY INFORMATION:

Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB Ecological Process and Effects Committee (EPEC) is a subcommittee of the SAB that provides advice through the chartered SAB on technical issues related to EPA environmental programs and the supporting science and research to protect, sustain, and restore the health of ecosystems. The SAB and the EPEC, augmented with additional experts, will comply with the provisions of FACA and all appropriate SAB Staff Office procedural policies. The augmented EPEC will provide advice through the chartered SAB on scientific and technical issues related to the Agency's proposed methods for revising and updating water quality criteria, as described in the Agency's draft scoping document, entitled “Scope and Approach for Revising USEPA's Guidelines for Deriving National Water Quality Criteria to Protect Aquatic Life.” This draft document provides an overview of the framework EPA proposes to use for the phased revision of the 1985 Guidelines for Deriving Numerical Water Quality Criteria for the Protection of Aquatic Organisms and Their Uses by outlining the planned scope and approach of the Guidelines revision process and introducing new and alternative methods to be considered for deriving aquatic life criteria based on the latest and most appropriate science available.

EPA's Office of Water (OW) requested an SAB consultation (i.e., early advice) on their draft approach for updating and revising the EPA's 1985 methodology for deriving national Ambient Water Quality Criteria to protect aquatic life, as described in the draft scoping document. The SAB Staff Office is seeking experts to augment the SAB EPEC for this advisory activity. EPA's OW has also requested reviews of two subsequent and related draft documents: “Draft Expedited Methodologies for Deriving Water Quality Criteria for the Protection of Aquatic Life” and “Draft Revised USEPA Guidelines for Deriving Numeric Water Quality Criteria for the Protection of Aquatic Life.” These draft documents are currently scheduled for completion as drafts in late 2017 and mid-2019.

Technical Contact for EPA's Draft Report: For information concerning the draft EPA report, “Scope and Approach for Revising USEPA's Guidelines for Deriving National Water Quality Criteria to Protect Aquatic Life,” please contact Mike Elias, Ecological Risk Assessment Branch, Health and Ecological Criteria Division, Office of Water, U.S. EPA, 1200 Pennsylvania Ave. NW., Washington, DC 20460, phone (202) 566-0120 or via email at elias.mike@epa.gov.

Request for Nominations: The SAB Staff Office is seeking nominations of nationally and internationally recognized scientists with demonstrated expertise and research to augment the EPEC for the consultation and subsequent reviews of methods for revising Water Quality Criteria. For this effort, the SAB Staff Office seeks experts in one or more of the following areas: Aquatic toxicology; ecotoxicology; aquatic ecology; ecological risk assessment; ecological effects modeling; and statistics, especially as applied to developing robust computational methods for estimating acute and chronic effects of water pollutants on aquatic life and aquatic-dependent wildlife. Additional information about this advisory activity is available on the SAB Web site at http://yosemite.epa.gov/sab/sabproduct.nsf/fedrgstr_activites/1985%20WQ%20Criteria%20Guidelines%20Revision?OpenDocument. Questions regarding this advisory activity should be directed to Iris Goodman, Designated Federal Officer (DFO), SAB Staff Office, by telephone/voice mail at (202) 564-2164, by fax at (202) 565-2098, or via email at goodman.iris@epa.gov.

Process and Deadline for Submitting Nominations: Any interested person or organization may nominate qualified individuals in the areas of expertise described above for possible service on the augmented EPEC panel described above. Nominations should be submitted in electronic format (preferred over hard copy) using the online nomination form under the “Nomination of Experts” category at the bottom of the SAB home page at http://www.epa.gov/sab. To receive full consideration, nominations should include all of the information requested below. EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB Web site, should contact Iris Goodman as indicated above in this notice. Nominations should be submitted in time to arrive no later than September 20, 2016. EPA values and welcomes diversity. In an effort to obtain nominations of diverse candidates, EPA encourages nominations of women and men of all racial and ethnic groups.

The EPA SAB Staff Office will acknowledge receipt of nominations. The names and biosketches of qualified nominees identified by respondents to this Federal Register notice, and additional experts identified by the SAB Staff, will be posted in a List of Candidates for the EPEC Augmented for Review of Aquatic Life Water Quality Criteria Methods on the SAB Web site at http://www.epa.gov/sab (see links under “Public Input on Membership” at the bottom of the SAB home page). Public comments on the List of Candidates will be accepted for 21 days. The public will be requested to provide relevant information or other documentation on nominees that the SAB Staff Office should consider in evaluating candidates.

For the EPA SAB Staff Office a balanced review panel includes candidates who possess the necessary domains of knowledge, the relevant scientific perspectives (which, among other factors, can be influenced by work history and affiliation), and the collective breadth of experience to adequately address the charge. In forming the augmented EPEC, the SAB Staff Office will consider public comments on the List of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and, (f) for the panel as a whole, diversity of expertise and scientific points of view.

The SAB Staff Office's evaluation of an absence of financial conflicts of interest will include a review of the “Confidential Financial Disclosure Form for Environmental Protection Agency Special Government Employees” (EPA Form 3110-48). This confidential form allows government officials to determine whether there is a statutory conflict between a person's public responsibilities (which include membership on an EPA federal advisory committee) and private interests and activities, or the appearance of a loss of impartiality, as defined by federal regulation. The form may be viewed and downloaded from the following URL address http://yosemite.epa.gov/sab/sabproduct.nsf/Web/ethics?OpenDocument.

The approved policy under which the EPA SAB Office selects members for subcommittees and review panels is described in the following document: Overview of the Panel Formation Process at the Environmental Protection Agency Science Advisory Board (EPA-SAB-EC-02-010), which is posted on the SAB Web site at http://www.epa.gov/sab/pdf/ec02010.pdf.

Dated: August 24, 2016.
Christopher S. Zarba,
Director, EPA Science Advisory Board Staff Office.

[FR Doc. 2016-20851 Filed 8-29-16; 8:45 am]

BILLING CODE 6560-50-P